SOCIAL SECURITY ADMINISTRATION

20 CFR Parts 404 and 416

[Docket No. SSA 2008-0007]

RIN 0960-AG70

Representative Payment Under Titles II, VIII and XVI of the Social Security Act

AGENCY: Social Security Administration.

ACTION: Notice of Proposed Rulemaking.

SUMMARY: We propose to amend our rules governing how we investigate representative payee applicants. Under these proposed rules, any payee who has previously satisfied the payee investigation process including a face-to-face interview and is currently serving as a payee, need not appear for another face-to-face interview when making a subsequent application to become a payee, unless we determine, within our discretion, that a new face-to-face interview is necessary. This change would streamline our representative payee application process, thereby allowing payee applicants to become qualified in a shorter timeframe when they have already been investigated. This should expedite the payment of benefits in certain representative payee situations. It will also reduce the burden to the public and reduce traffic in our field offices when a payee applicant has already satisfied the face-to-face interview required by law.

DATES: To be sure that we consider your comments, we must receive them no later than May 12, 2008.

ADDRESSES: You may submit comments by one of four methods—Internet, facsimile, regular mail, or hand-delivery. Please do not submit the same comments multiple times or by more than one method. Regardless of which of the following methods you choose, please state that your comments refer to Docket No. SSA-2008-0007 to ensure that we can associate your comments with the correct regulation:

1. Federal eRulemaking portal at http://www.regulations.gov. (This is the most expedient method for submitting your comments, and we strongly urge you to use it.) In the Comment or Submission section of the webpage, type “SSA-2008-0007”, select “Go”, and then click “Send a Comment or Submission.” The Federal eRulemaking portal issues you a tracking number when you submit a comment.

2. Telefax to (410) 966-2830.

3. Letter to the Commissioner of Social Security, P.O. Box 17703, Baltimore, Maryland 21235-7703.

4. Deliver your comments to the Office of Regulations, Social Security Administration, 922 Altmeyer Building, 6401 Security Boulevard, Baltimore, Maryland 21235-6401, between 8 a.m. and 4:30 p.m. on regular business days.

All comments are posted on the Federal eRulemaking portal, although they may not appear for several days after receipt of the comment. You may also inspect the comments on regular business days by making arrangements with the contact person shown in this preamble.

Caution: Our policy for comments we receive from members of the public is to make them available for public viewing in their entirety on the Federal eRulemaking portal at http://www.regulations.gov. Therefore, you should be careful to include in your comments only information that you wish to make publicly available on the Internet. We strongly urge you not to include any personal information, such as your Social Security number or medical information, in your comments.

FOR FURTHER INFORMATION CONTACT: Jerome Albanese, Office of Regulations, Social Security Administration, 6401 Security Boulevard, Baltimore, MD 21235-6401, (404) 562-1024, for information about this notice. For information on eligibility or filing for benefits, call our national toll-free number, 1-800-772-1213 or TTY 1-800-325-0778, or visit our Internet site, Social Security Online, at http://www.socialsecurity.gov.

SUPPLEMENTARY INFORMATION:

Electronic Version

The electronic file of this document is available on the date of publication in the Federal Register at http://www.gpoaccess.gov/fr/index.html.

Background

Under the authority of sections 205(j), 807 and 1631(a)(2) of the Social Security Act (the Act), we select a representative payee for certain persons eligible for Social Security benefits under title II of Act, special veteran's benefits (SVBs) under title VIII of the Act, or supplemental security income under title XVI of the Act. We select a representative payee if we believe that payment through a payee rather than direct payment of benefits is in the interest of that beneficiary. Subpart U of part 404, subpart F of part 408, and subpart F of part 416 of our regulations explain the procedures that we follow in determining whether to make representative payment and in selecting a representative payee under the title II, VIII and XVI programs.

Based on 205(j)(2), 807(b) and 1631(a)(2)(B) of the Act, our current rules at §§ 404.2024 and 416.624 require that, before selecting an individual or organization to act as a person's representative payee, we will investigate a payee applicant to determine the applicant's suitability. Section 408.624 adopts these investigatory requirements for SVBs by cross-reference to § 404.2024.

An investigation includes, among other things, a face-to-face interview unless it is impracticable to do so. The Act at 205(j)(2)(A)(i), 807(b)(1)(A) and 1631(a)(2)(B)(i)(I) states that we conduct a face-to-face interview with a payee applicant to the extent practicable. Based on this authority, our current rules at §§ 404.2024 and 416.624 indicate that we generally conduct a face-to-face interview with a payee applicant each time they file to become a payee, regardless of whether the payee has already satisfied the investigation and undergone a prior face-to-face interview.

Our current rules at §§ 404.2024(b) and 416.624(b) appear to provide only one exception to the requirement for holding a face-to-face interview, and that is when such an interview is impracticable. These sections explain that a face-to-face interview is impracticable if conducting one would cause undue hardship, such as when a payee applicant would have to travel a great distance to the field office. Our current rules also indicate that we may decide it is impracticable to require subsequent face-to-face interviews for organizational payees that are known by our field office as suitable payees. We base this decision on the organization's past performance, recent contacts, and the organization's knowledge of and compliance with our reporting requirements.

Explanation of Changes

We propose to eliminate the requirement that we conduct a face-to-face interview before selecting an individual or organization to be a representative payee if we have already conducted a face-to-face with that payee and the payee is qualified and currently acting as a payee. However, we would retain discretionary authority to require a subsequent face-to-face interview of any payee applicant. In this notice of proposed rulemaking, we have proposed revisions to §§ 404.2024(b) and 416.624(b) that would accomplish these rule changes.

We propose adding a new paragraph (c), “Impracticable,” to §§ 404.2024(c) and 416.624(c). This new paragraph would contain the first three sentences of current §§ 404.2024(b) and 416.624(b), with editorial changes. We are not proposing any substantive changes to this text.

Clarity of These Proposed Rules

Executive Order (E.O.) 12866, as amended, requires each agency to write all rules in plain language. In addition to your substantive comments on these final rules, we invite your comments on how to make them easier to understand.

For example:

• Have we organized the material to suit your needs?

• Are the requirements in the rules clearly stated?

• Do the rules contain technical language or jargon that isn't clear?

• Would a different format (grouping and order of sections, use of headings, paragraphing) make the rules easier to understand?

• Would more (but shorter) sections be better?

• Could we improve clarity by adding tables, lists, or diagrams?

• What else could we do to make the rules easier to understand?

When Will We Start To Use These Rules?

We will not use these rules until we evaluate the public comments we receive on them, determine whether they should be issued as final rules, and issue final rules in the Federal Register. If we publish final rules, we will explain in the preamble how we will apply them, and summarize and respond to the public comments. Until the effective date of any final rules, we will continue to use our current rules.

Regulatory Procedures

Executive Order 12866, as Amended

We have consulted with the Office of Management and Budget (OMB) and determined that these proposed rules meet the criteria for a significant regulatory action under E.O. 12866, as amended. Thus, they were subject to OMB review.

Regulatory Flexibility Act

We certify that these proposed rules would not have a significant economic impact on a substantial number of small entities. Therefore, a regulatory flexibility analysis as provided in the Regulatory Flexibility Act, as amended, is not required.

Paperwork Reduction Act

These regulations impose no reporting or recordkeeping requirements subject to OMB clearance.

(Catalog of Federal Domestic Assistance Program Nos. 96.001, Social Security—Disability Insurance; 96.002, Social Security—Retirement Insurance; 96.004, Social Security—Survivors Insurance; 96-006, Supplemental Security Income; 96-020, Special Benefits for Certain World War II Veterans.)

List of Subjects

20 CFR Part 404

Administrative practice and procedure; Blind; Disability benefits; Old-Age, Survivors, and Disability Insurance; Reporting and recordkeeping requirements; Social Security.

20 CFR Part 416

Administrative practice and procedure; Aged; Blind, Disability benefits; Public assistance programs; Reporting and recordkeeping requirements; Supplemental Security Income (SSI).

Dated: March 3, 2008.
Michael J. Astrue,
Commissioner of Social Security.

For the reasons set out in the preamble, we propose to amend subpart U of part 404 and subpart F of part 416 of chapter III of title 20 of the Code of Federal Regulations as set forth below:

PART 404—FEDERAL OLD-AGE, SURVIVORS AND DISABILITY INSURANCE (1950-)

Subpart U—[Amended]

1. The authority citation for subpart U continues to read as follows:

Authority: Secs. 205 (a), (j), and (k), and 702(a)(5) of the Social Security Act (42 U.S.C. 405(a), (j), and (k), and 902(a)(5)).

2. Amend § 404.2024 by revising paragraphs (a)(1) and (b) and by adding new paragraph (c) as follows:

§ 404.2024 How do we investigate a representative payee applicant?

* * * * *

(a) * * *

(1) Conduct a face-to-face interview with the payee applicant unless it is impracticable as explained in paragraph (c) of this section.

* * * * *

(b) Subsequent face-to-face interviews. After holding a face-to-face interview with a payee applicant, subsequent face-to-face interviews are not required if that applicant continues to be qualified and currently is acting as a payee, unless we determine, within our discretion, that a new face-to-face interview is necessary. We base this decision on the payee's past performance and knowledge of and compliance with our reporting requirements.

(c) Impracticable. We may consider a face-to-face interview impracticable if it would cause the payee applicant undue hardship. For example, the payee applicant would have to travel a great distance to the field office. In this situation, we may conduct the investigation to determine the payee applicant's suitability to serve as a representative payee without a face-to-face interview.

PART 416—SUPPLEMENTAL SECURITY INCOME FOR THE AGED, BLIND, AND DISABLED

Subpart F—[Amended]

1. The authority citation for subpart F continues to read as follows:

Authority: Secs. 702(a)(5), 1631(a)(2) and (d)(1) of the Social Security Act (42 U.S.C. 902(a)(5) and 1383(a)(2) and (d)(1)).

2. Amend § 416.624 by revising paragraphs (a)(1) and (b) and by adding new paragraph (c) as follows:

§ 416.624 How do we investigate a representative payee applicant?

* * * * *

(a) * * *

(1) Conduct a face-to-face interview with the payee applicant unless it is impracticable as explained in paragraph (c) of this section.

* * * * *

(b) Subsequent face-to-face interviews. After holding a face-to-face interview with a payee applicant, subsequent face-to-face interviews are not required if that applicant continues to be qualified and currently is acting as a payee, unless we determine, within our discretion, that a new face-to-face interview is necessary. We base this decision on the payee's past performance and knowledge of and compliance with our reporting requirements.

(c) Impracticable. We may consider a face-to-face interview impracticable if it would cause the payee applicant undue hardship. For example, the payee applicant would have to travel a great distance to the field office. In this situation, we may conduct the investigation to determine the payee applicant's suitability to serve as a representative payee without a face-to-face interview.

[FR Doc. E8-4781 Filed 3-10-08; 8:45 am]

BILLING CODE 4191-02-P